DEPARTMENT OF THE INTERIOR

Fish and Wildlife Service

50 CFR Part 17

[4500030115]

Endangered and Threatened Wildlife and Plants; 90-Day Findings on 17 Petitions

AGENCY: Fish and Wildlife Service, Interior.

ACTION: Petition findings and initiation of status reviews.

SUMMARY: We, the U.S. Fish and Wildlife Service (Service), announce 90-day findings on various petitions to list, reclassify, or delist fish, wildlife, or plants under the Endangered Species Act of 1973, as amended (Act). Based on our review, we find that six petitions do not present substantial scientific or commercial information indicating that the petitioned actions may be warranted, and we are not initiating status reviews in response to these petitions. We refer to these as “not-substantial” petition findings. We also find that 11 petitions present substantial scientific or commercial information indicating that the petitioned actions may be warranted. Therefore, with the publication of this document, we announce that we plan to initiate a review of the status of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: When we conduct status reviews, we will consider all information that we have received. To ensure that we will have adequate time to consider submitted information during the status reviews, we request that we receive information no later than March 14, 2016. Information submitted electronically using the Federal eRulemaking Portal (see ADDRESSES) should be received by 11:59 p.m. Eastern Time on the closing date.

ADDRESSES: Not-substantial petition findings: The not-substantial petition findings announced in this document are available on http://www.regulations.gov under the appropriate docket number (see Table 2 in this section), or on the Service's Web site at ecos.fws.gov. Supporting information in preparing these findings is available for public inspection, by appointment, during normal business hours by contacting the appropriate person, as specified under FOR FURTHER INFORMATION CONTACT.

Status reviews: You may submit information on species for which a status review is being initiated by one of the following methods:

(1) Electronically: Go to the Federal eRulemaking Portal: http://www.regulations.gov. In the Search box, enter the appropriate docket number (see Table 1, below). You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see Table 1, below]; U.S. Fish and Wildlife Service, MS: BPHC, 5275 Leesburg Pike; Falls Church, VA 22041-3803.

We request that you send information only by the methods described above. We will post all information received on http://www.regulations.gov. This generally means that we will post any personal information you provide us (see Request for Information for Status Reviews in SUPPLEMENTARY INFORMATION for more details).

Table 1—List of Substantial Findings for Which a Status Review Is Being Initiated
Common name | Docket No. | URL to docket in regs.gov
Culebra skink | FWS-R4-ES-2015-0085 | http://www.regulations.gov/#!docketDetail;D=FWS-R4-ES-2015-0085.
Great Basin silverspot butterfly | FWS-R6-ES-2015-0089 | http://www.regulations.gov/#!docketDetail;D=FWS-R6-ES-2015-0089.
Greater Saint Croix skink | FWS-R4-ES-2015-0090 | http://www.regulations.gov/#!docketDetail;D=FWS-R4-ES-2015-0090.
Greater Virgin Islands skink | FWS-R4-ES-2015-0091 | http://www.regulations.gov/#!docketDetail;D=FWS-R4-ES-2015-0091.
Lesser Saint Croix skink | FWS-R4-ES-2015-0096 | http://www.regulations.gov/#!docketDetail;D=FWS-R4-ES-2015-0096.
Mona skink | FWS-R4-ES-2015-0100 | http://www.regulations.gov/#!docketDetail;D=FWS-R4-ES-2015-0100.
Narrow-foot diving beetle | FWS-R6-ES-2015-0102 | http://www.regulations.gov/#!docketDetail;D=FWS-R6-ES-2015-0102.
Northern Rockies population of fisher | FWS-R6-ES-2015-0104 | http://www.regulations.gov/#!docketDetail;D=FWS-R6-ES-2015-0104.
Puerto Rican skink | FWS-R4-ES-2015-0107 | http://www.regulations.gov/#!docketDetail;D=FWS-R4-ES-2015-0107.
Scott riffle beetle | FWS-R6-ES-2015-0114 | http://www.regulations.gov/#!docketDetail;D=FWS-R6-ES-2015-0114.
Virgin Islands bronze skink | FWS-R4-ES-2015-0120 | http://www.regulations.gov/#!docketDetail;D=FWS-R4-ES-2015-0120.

Table 2—List of Not-Substantial Findings
Common name | Docket No. | URL to docket in regs.gov
Colorado desert fringe-toed lizard | FWS-R8-ES-2015-0082 | http://www.regulations.gov/#!docketDetail;D=FWS-R8-ES-2015-0082.
Grizzly bear (Cabinet-Yaak population)—Uplist | FWS-R6-ES-2015-0173 | http://www.regulations.gov/#!docketDetail;D=FWS-R6-ES-2015-0173.
Grizzly bear (Cabinet-Yaak population)—Delist | FWS-R6-ES-2015-0174 | http://www.regulations.gov/#!docketDetail;D=FWS-R6-ES-2015-0174.
Kings River slender salamander | FWS-R8-ES-2015-0094 | http://www.regulations.gov/#!docketDetail;D=FWS-R8-ES-2015-0094.
Sandstone night lizard | FWS-R8-ES-2015-0113 | http://www.regulations.gov/#!docketDetail;D=FWS-R8-ES-2015-0113.
Yellowstone bison | FWS-R6-ES-2015-0123 | http://www.regulations.gov/#!docketDetail;D=FWS-R6-ES-2015-0123.

FOR FURTHER INFORMATION CONTACT:

Common name | Contact person
Colorado desert fringe-toed lizard | Mendel Stewart, 760-431-9440; Mendel_Stewart@fws.gov.
Culebra skink | Andreas Moshogianis, 404-679-7119; Andreas_Moshgianis@fws.gov.
Great Basin silverspot butterfly | Ann Timberman, 970-628-7181; Ann_Timberman@fws.gov.
Greater Saint Croix skink | Andreas Moshogianis, 404-679-7119; Andreas_Moshgianis@fws.gov.
Greater Virgin Islands skink | Andreas Moshogianis, 404-679-7119; Andreas_Moshgianis@fws.gov.
Grizzly bear (Cabinet-Yaak population) | Chris Servheen, 406-243-4903; Chris_Servheen@fws.gov.
Kings River slender salamander | Jennifer Norris, 916-414-6600; Jennifer_Norris@fws.gov.
Lesser Saint Croix skink | Andreas Moshogianis, 404-679-7119; Andreas_Moshgianis@fws.gov.
Mona skink | Andreas Moshogianis, 404-679-7119; Andreas_Moshgianis@fws.gov.
Narrow-foot diving beetle | Mark Sattelberg, 307-772-2374; Mark_Sattelberg@fws.gov.
Northern Rockies population of fisher | Jodi Bush, 406-449-5225 x105; Jodi_Bush@fws.gov.
Puerto Rican skink | Andreas Moshogianis, 404-679-7119; Andreas_Moshgianis@fws.gov.
Sandstone Night lizard | Mendel Stewart, 760-431-9440; Mendel_Stewart@fws.gov.
Scott riffle beetle | Jason Luginbill, 785-539-3474 x105; Jason_Luginbill@fws.gov.
Virgin Islands bronze skink | Andreas Moshogianis, 404-679-7119; Andreas_Moshgianis@fws.gov.
Yellowstone bison | Mark Sattelberg, 307-772-2374; Mark_Sattelberg@fws.gov.

If you use a telecommunications device for the deaf (TDD), please call the Federal Information Relay Service (FIRS) at 800-877-8339.

SUPPLEMENTARY INFORMATION:

Request for Information for Status Reviews

When we make a finding that a petition presents substantial information indicating that listing, reclassification, or delisting a species may be warranted, we are required to review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns;

(d) Historical and current population levels, and current and projected trends; and

(e) Past and ongoing conservation measures for the species, its habitat, or both.

(2) The factors that are the basis for making a listing, reclassification, or delisting determination for a species under section 4(a) of the Act (16 U.S.C. 1531 et seq.), which are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat, and the extent to which it affects the habitat or range of the species.

If, after the status review, we determine that listing is warranted, we will propose critical habitat (see definition in section 3(5)(A) of the Act) for domestic (U.S.) species under section 4 of the Act, to the maximum extent prudent and determinable at the time we propose to list the species. Therefore, we also request data and information for the species listed above in Table 1 (to be submitted as provided for in the ADDRESSES section) on:

(1) What may constitute “physical or biological features essential to the conservation of the species,” within the geographical range occupied by the species;

(2) Where these features are currently found;

(3) Whether any of these features may require special management considerations or protection;

(4) Specific areas outside the geographical area occupied by the species that are “essential for the conservation of the species”; and

(5) What, if any, critical habitat you think we should propose for designation if the species is proposed for listing, and why such habitat meets the requirements of section 4 of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing these 90-day findings is available for you to review at http://www.regulations.gov, or you may make an appointment during normal business hours at the appropriate lead U.S. Fish and Wildlife Service Field Office (contact the person listed under FOR FURTHER INFORMATION CONTACT).

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a review of the status of the species, which will be subsequently summarized in our 12-month finding.

Section 4 of the Act (16 U.S.C. 1533) and its implementing regulations at 50 CFR 424 set forth the procedures for adding a species to, or removing a species from, the Federal Lists of Endangered and Threatened Wildlife and Plants. A species may be determined to be an endangered or threatened species because of one or more of the five factors described in section 4(a)(1) of the Act (see Request for Information for Status Reviews, above).

In considering whether conditions described within one or more of the factors might constitute threats, we must look beyond the exposure of the species to those conditions to evaluate whether the species may respond to the conditions in a way that causes actual impacts to the species. If there is exposure to a condition and the species responds negatively, the condition qualify as a stressors and, during the subsequent status review, we attempt to determine how significant the stressor is. If the stressor is sufficiently significant that it drives, or contributes to, the risk of extinction of the species such that the species may warrant listing as endangered or threatened as those terms are defined in the Act, the stressor constitutes a threat to the species. Thus, the identification of conditions that could affect a species negatively may not be sufficient to compel a finding that the information in the petition and our files is substantial. The information must include evidence sufficient to suggest that these conditions may be operative threats that act on the species to a sufficient degree that the species may meet the definition of an endangered or threatened species under the Act.

Evaluation of a Petition To List the Colorado Desert Fringe-Toed Lizard as an Endangered or Threatened Species Under the Act

Additional information regarding our review of this petition can be found as an appendix at http://www.regulations.gov under Docket No. FWS-R8-ES-2015-0082 under the Supporting Documents section.

Species and Range

Colorado desert fringe-toed lizard (Uma notata); California, Baja California, Mexico

Petition History

On July 11, 2012, we received a petition dated July 11, 2012, from the Center for Biological Diversity, requesting that 53 species of reptiles and amphibians, including the Colorado desert fringe-toed lizard, be listed under the Act as endangered or threatened species and that critical habitat be designated under the Act. The petition clearly identified itself as such and included the requisite identification information for the petitioner, required at 50 CFR 424.14(a). This finding addresses the Colorado desert fringe-toed lizard.

Finding

Based on our review of the petition and sources cited in the petition, we find that the petition does not present substantial scientific or commercial information indicating that the petitioned action may be warranted for Colorado desert fringe-toed lizard (Uma notata). Because the petition does not present substantial information indicating that listing the Colorado desert fringe-toed lizard may be warranted, we are not initiating a status review of this species in response to this petition. Our justification for this finding can be found as an appendix at http://www.regulations.gov under Docket No. FWS-R8-ES-2015-0082 under the Supporting Documents section. However, we ask that the public submit to us any new information that becomes available concerning the status of, or threats to, this species or its habitat at any time (see FOR FURTHER INFORMATION CONTACT).

Evaluation of a Petition To List the Culebra Skink as an Endangered or Threatened Species Under the Act

Additional information regarding our review of this petition can be found as an appendix at http://www.regulations.gov under Docket No. FWS-R4-ES-2015-0085 under the Supporting Documents section.

Species and Range

Culebra skink (Spondylurus culebrae); Caribbean

Petition History

On February 11, 2014, we received a petition dated February 11, 2014, from the Center for Biological Diversity, requesting that the Culebra skink, greater Saint Croix skink, Mona skink, Puerto Rican skink, Virgin Islands bronze skink, Greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the Culebra skink (Spondylurus culebrae).

Finding

Based on our review of the petition and sources cited in the petition, we find that the petition presents substantial scientific or commercial information indicating that listing the Culebra skink (Spondylurus culebrae) may be warranted based on Factors C and D. However, during our status review, we will thoroughly evaluate all potential threats to the species. Thus, for this species, the Service requests information on the five listing factors under section 4(a)(1) of the Act, including the factors identified in this finding (see Request for Information for Status Reviews, above).

Evaluation of a Petition To List the Great Basin Silverspot as an Endangered or Threatened Species Under the Act

Additional information regarding our review of this petition can be found as an appendix at http://www.regulations.gov under Docket No. FWS-R6-ES-2015-0089 under the Supporting Documents section.

Species and Range

Great Basin silverspot (Speyeria nokomis nokomis); Arizona, Colorado, New Mexico, Utah

Petition History

On April 24, 2013, we received a petition dated April 13, 2013, from WildEarth Guardians, requesting that the Great Basin silverspot be listed as endangered or threatened under the Act. The petition clearly identified itself as such and included the requisite identification information for the petitioner, required at 50 CFR 424.14(a). This finding addresses the petition.

Finding

Based on our review of the petition and sources cited in the petition, we find that the petition presents substantial scientific or commercial information indicating that listing the Great Basin silverspot (Speyeria nokomis nokomis) may be warranted based on Factors A and E. However, during our status review, we will thoroughly evaluate all potential threats to the species. Thus, for this species, the Service requests information on the five listing factors under section 4(a)(1) of the Act, including the factors identified in this finding (see Request for Information for Status Reviews, above).

Evaluation of a Petition To List the Greater Saint Croix Skink as an Endangered or Threatened Species Under the Act

Additional information regarding our review of this petition can be found as an appendix at http://www.regulations.gov under Docket No. FWS-R4-ES-2015-0090 under the Supporting Documents section.

Species and Range

Greater Saint Croix skink (Spondylurus magnacruzae); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the greater Saint Croix skink.

Finding

Based on our review of the petition and sources cited in the petition, we find that the petition presents substantial scientific or commercial information indicating that listing the greater Saint Croix skink (Spondylurus magnacruzae) may be warranted based on Factors C and D. However, during our status review, we will thoroughly evaluate all potential threats to the species. Thus, for this species, the Service requests information on the five listing factors under section 4(a)(1) of the Act, including the factors identified in this finding (see Request for Information for Status Reviews, above).

Evaluation of a Petition To List the Greater Virgin Islands Skink as an Endangered or Threatened Species Under the Act

Additional information regarding our review of this petition can be found as an appendix at http://www.regulations.gov under Docket No. FWS-R4-ES-2015-0091 under the Supporting Documents section.

Species and Range

Greater Virgin Islands skink (Spondylurus spilonotus); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the greater Virgin Islands skink.

Finding

Based on our review of the petition and sources cited in the petition, we find that the petition presents substantial scientific or commercial information indicating that listing the greater Virgin Islands skink (Spondylurus spilonotus) may be warranted based on Factors C and D. However, during our status review, we will thoroughly evaluate all potential threats to the species. Thus, for this species, the Service requests information on the five listing factors under section 4(a)(1) of the Act, including the factors identified in this finding (see Request for Information for Status Reviews, above).

Evaluation of a Petition To Reclassify the Grizzly Bear (Cabinet-Yaak Population) From a Threatened Species to an Endangered Species Under the Act

Additional information regarding our review of this petition can be found as an appendix at http://www.regulations.gov under Docket No. FWS-R6-ES-2015-0173 under the Supporting Documents section.

Species and Range

Grizzly bear (Cabinet-Yaak population) (Ursus arctos horribilis); Montana, Idaho

Petition History

On December 17, 2014, we received a petition dated December 11, 2014, from the Alliance for the Wild Rockies, requesting that the Cabinet-Yaak grizzly bear be reclassified as endangered and that critical habitat be designated for this population under the Act. The petition clearly identified itself as such and included the requisite identification information for the petitioner, required at 50 CFR 424.14(a). In a February 2, 2015, letter to the petitioner acknowledging receipt of the petition, we responded that we reviewed the information presented in the petition and did not find that the petition warranted an emergency listing. This finding addresses the petition.

Finding

Based on our review of the petition and sources cited in the petition, we find that the petition does not present substantial scientific or commercial information indicating that the petitioned action (reclassifying from threatened status to endangered status) may be warranted for the Cabinet-Yaak grizzly bear (Ursus arctos horribilis). Because the petition does not present substantial information indicating that reclassifying the Cabinet-Yaak grizzly bear may be warranted, we are not initiating a status review of this species in response to this petition. Our justification for this finding can be found as an appendix at http://www.regulations.gov under Docket No. FWS-R6-ES-2015-0173 under the Supporting Documents section. However, we ask that the public submit to us any new information that becomes available concerning the status of, or threats to, this population or its habitat at any time (see FOR FURTHER INFORMATION CONTACT).

Evaluation of a Petition To Remove the Grizzly Bear (Cabinet-Yaak Population) From the List of Endangered and Threatened Wildlife

Additional information regarding our review of this petition can be found as an appendix at http://www.regulations.gov under Docket No. FWS-R6-ES-2015-0174 under the Supporting Documents section.

Species and Range

Grizzly bear (Cabinet-Yaak population) (Ursus arctos horribilis); Montana, Idaho

Petition History

On July 27, 2015, we received a petition dated July 24, 2015, from Lincoln County, Montana, requesting that we remove Cabinet-Yaak grizzly bears from the List of Endangered and Threatened Wildlife (i.e., “delist” Cabinet-Yaak grizzly bears) due to recovery under the Act. Grizzly bears, including the Cabinet-Yaak population, are currently listed as threatened under the Act. The petition clearly identified itself as such and included the requisite identification information for the petitioner, required at 50 CFR 424.14(a). In an August 21, 2015, letter to the petitioner, we responded that we received the petition. This finding addresses this portion of the petition.

Finding

Based on our review of the petition and sources cited in the petition, we find that the petition does not present substantial scientific or commercial information indicating that the petitioned action (delisting) may be warranted for the Cabinet-Yaak population of grizzly bear (Ursus arctos horribilis). Because the petition does not present substantial information indicating that delisting the Cabinet-Yaak population of grizzly bear may be warranted, we are not initiating a status review of this species in response to this petition. Our justification for this finding can be found as an appendix at http://www.regulations.gov under Docket No. FWS-R6-ES-2015-0174 under the Supporting Documents section. However, we ask that the public submit to us any new information that becomes available concerning the status of, or threats to, this population or its habitat at any time (see FOR FURTHER INFORMATION CONTACT).

Evaluation of a Petition To List the Kings River Slender Salamander as an Endangered or Threatened Species Under the Act

Additional information regarding our review of this petition can be found as an appendix at http://www.regulations.gov under Docket No. FWS-R8-ES-2015-0094 under the Supporting Documents section.

Species and Range

Kings River slender salamander (Batrachoseps regius); California

Petition History

On July 11, 2012, we received a petition dated July 11, 2012, from the Center for Biological Diversity requesting that 53 species of reptiles and amphibians, including the Kings River slender salamander, be listed under the Act as endangered or threatened and that critical habitat be designated under the Act. The petition clearly identified itself as such and included the requisite identification information for the petitioner, required at 50 CFR 424.14(a). This finding addresses the Kings River slender salamander.

Finding

Based on our review of the petition and sources cited in the petition, we find that the petition does not present substantial scientific or commercial information indicating that the petitioned action may be warranted for the Kings River slender salamander (Batrachoseps regius). Because the petition does not present substantial information indicating that listing the Kings River slender salamander may be warranted, we are not initiating a status review of this species in response to this petition. Our justification for this finding can be found as an appendix at http://www.regulations.gov under Docket No. FWS-R8-ES-2015-0094 under the Supporting Documents section. However, we ask that the public submit to us any new information that becomes available concerning the status of, or threats to, this species or its habitat at any time (see FOR FURTHER INFORMATION CONTACT).

Evaluation of a Petition To List the Lesser Saint Croix Skink as an Endangered or Threatened Species Under the Act

Additional information regarding our review of this petition can be found as an appendix at http://www.regulations.gov under Docket No. FWS-R4-ES-2015-0096 under the Supporting Documents section.

Species and Range

Lesser Saint Croix skink (Capitellum parvicruzae); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the lesser Saint Croix skink.

Finding

Based on our review of the petition and sources cited in the petition, we find that the petition presents substantial scientific or commercial information indicating that listing the lesser Saint Croix skink (Capitellum parvicruzae) may be warranted based on Factors C and D. However, during our status review, we will thoroughly evaluate all potential threats to the species. Thus, for this species, the Service requests information on the five listing factors under section 4(a)(1) of the Act, including the factors identified in this finding (see Request for Information for Status Reviews, above).

Evaluation of a Petition To List the Mona Skink as an Endangered or Threatened Species Under the Act

Additional information regarding our review of this petition can be found as an appendix at http://www.regulations.gov under Docket No. FWS-R4-ES-2015-0100 under the Supporting Documents section.

Species and Range

Mona skink (Spondylurus monae); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the Mona skink.

Finding

Based on our review of the petition and sources cited in the petition, we find that the petition presents substantial scientific or commercial information indicating that listing the Mona skink (Spondylurus monae) may be warranted based on Factors A, C, and D. However, during our status review, we will thoroughly evaluate all potential threats to the species. Thus, for this species, the Service requests information on the five listing factors under section 4(a)(1) of the Act, including the factors identified in this finding (see Request for Information for Status Reviews, above).

Evaluation of a Petition To List the Narrow-Foot Diving Beetle as an Endangered or Threatened Species Under the Act

Additional information regarding our review of this petition can be found as an appendix at http://www.regulations.gov under Docket No. FWS-R6-ES-2015-0102 under the Supporting Documents section.

Species and Range

Narrow-foot diving beetle (Hygrotus diversipes); Wyoming

Petition History

On July 17, 2013, we received a petition dated July 9, 2013, from WildEarth Guardians, requesting that the narrow-foot diving beetle be listed as endangered or threatened under the Act. The petition clearly identified itself as such and included the requisite identification information for the petitioner, required at 50 CFR 424.14(a). This finding addresses the narrow-foot diving beetle.

Finding

Based on our review of the petition and sources cited in the petition, we find that the petition presents substantial scientific or commercial information indicating that listing the narrow-foot diving beetle (Hygrotus diversipes) may be warranted based on Factors A and E. However, during our status review, we will thoroughly evaluate all potential threats to the species. Thus, for this species, the Service requests information on the five listing factors under section 4(a)(1) of the Act, including the factors identified in this finding (see Request for Information for Status Reviews, above).

Evaluation of a Petition To List the Fisher (Northern Rockies Population) as an Endangered or Threatened Species Under the Act

Additional information regarding our review of this petition can be found as an appendix at http://www.regulations.gov under Docket No. FWS-R6-ES-2015-0104 under the Supporting Documents section.

Species and Range

Fisher (Northern Rockies population) (Martes pennanti); Idaho, Montana

Petition History

On September 23, 2013, we received a petition dated September 23, 2013, from the Center for Biological Diversity, Defenders of Wildlife, Friends of the Bitterroot, Friends of the Clearwater, Western Watersheds Project, and Friends of the Wild Swan, requesting that the fisher in its U.S. Northern Rocky Mountains (USNRMs) range be listed as endangered or threatened under the Act. The petition clearly identified itself as such and included the requisite identification information for the petitioner, required at 50 CFR 424.14(a). In an October 31, 2013, letter to the petitioner, we responded that we reviewed the information presented in the petition and did not find that the petition warranted an emergency listing. This finding addresses the petition.

On June 30, 2011, we published a 12-month finding (76 FR 38504) following a full status review of fishers in the USNRMs that concluded listing the entity as endangered or threatened under the Act was not warranted.

Finding

Based on our review of the petition and sources cited in the petition, including new information that petitioners submitted after the 2011 finding, we find that the petition presents substantial scientific or commercial information indicating that listing the fisher (Northern Rockies population) (Martes pennanti) may be warranted based on Factors B and E. However, during our status review, we will thoroughly evaluate all potential threats to the species. In the course of reviewing the status of the species, we will consider any information that has become available since the 2011 finding, including the new information provided by the petitioners. Thus, for this species, the Service requests information on the five listing factors under section 4(a)(1) of the Act, including the factors identified in this finding (see Request for Information for Status Reviews, above).

Evaluation of a Petition To List the Puerto Rico Skink as an Endangered or Threatened Species Under the Act

Additional information regarding our review of this petition can be found as an appendix at http://www.regulations.gov under Docket No. FWS-R4-ES-2015-0107 under the Supporting Documents section.

Species and Range

Puerto Rico skink (Spondylurus nitidus); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the Puerto Rican skink.

Finding

Based on our review of the petition and sources cited in the petition, we find that the petition presents substantial scientific or commercial information indicating that listing the Puerto Rico skink (Spondylurus nitidus) may be warranted based on Factors A, C, and D. However, during our status review, we will thoroughly evaluate all potential threats to the species. Thus, for this species, the Service requests information on the five listing factors under section 4(a)(1) of the Act, including the factors identified in this finding (see Request for Information for Status Reviews, above).

Evaluation of a Petition To List the Sandstone Night Lizard as an Endangered or Threatened Species Under the Act

Additional information regarding our review of this petition can be found as an appendix at http://www.regulations.gov under Docket No. FWS-R8-ES-2015-0113 under the Supporting Documents section.

Species and Range

Sandstone night lizard (Xantusia gracilis); California

Petition History

On July 11, 2012, we received a petition dated July 11, 2012, from the Center for Biological Diversity requesting that 53 species of reptiles and amphibians, including the sandstone night lizard, be listed under the Act as endangered or threatened and that critical habitat be designated under the Act. The petition clearly identified itself as such and included the requisite identification information for the petitioner, required at 50 CFR 424.14(a). This finding addresses the petition.

Finding

Based on our review of the petition and sources cited in the petition, we find that the petition does not present substantial scientific or commercial information indicating that the petitioned action may be warranted for the sandstone night lizard (Xantusia gracilis). Because the petition does not present substantial information indicating that listing the sandstone night lizard may be warranted, we are not initiating a status review of this species in response to this petition. Our justification for this finding can be found as an appendix at http://www.regulations.gov under Docket No. FWS-R8-ES-2015-0113 under the Supporting Documents section. However, we ask that the public submit to us any new information that becomes available concerning the status of, or threats to, this species or its habitat at any time (see FOR FURTHER INFORMATION CONTACT).

Evaluation of a Petition To List the Scott Riffle Beetle as an Endangered or Threatened Species Under the Act

Additional information regarding our review of this petition can be found as an appendix at http://www.regulations.gov under Docket No. FWS-R6-ES-2015-0114 under the Supporting Documents section.

Species and Range

Scott riffle beetle (Optioservus phaeus gilbert); Kansas

Petition History

On September 20, 2013, we received a petition dated September 18, 2013, from WildEarth Guardians, requesting that the Scott riffle beetle be listed as endangered or threatened under the Act. The petition clearly identified itself as such and included the requisite identification information for the petitioner, required at 50 CFR 424.14(a). This finding addresses the petition.

Finding

Based on our review of the petition and sources cited in the petition, we find that the petition presents substantial scientific or commercial information indicating that listing the Scott riffle beetle (Optioservus phaeus gilbert) may be warranted based on Factors A, C, D, and E. However, during our status review, we will thoroughly evaluate all potential threats to the species. Thus, for this species, the Service requests information on the five listing factors under section 4(a)(1) of the Act, including the factors identified in this finding (see Request for Information for Status Reviews, above).

Evaluation of a Petition To List the Virgin Islands Bronze Skink as an Endangered or Threatened Species Under the Act

Additional information regarding our review of this petition can be found as an appendix at http://www.regulations.gov under Docket No. FWS-R4-ES-2015-0120 under the Supporting Documents section.

Species and Range

Virgin Islands bronze skink (Spondylurus sloanii); Caribbean

Petition History

On February 11, 2014, we received a petition dated February 11, 2014, from the Center for Biological Diversity, requesting that the Culebra skink, greater Saint Croix skink, Mona skink, Puerto Rican skink, Virgin Islands bronze skink, greater Virgin Islands skink, lesser Saint Croix skink, Monito skink, and lesser Virgin Islands skink be listed as endangered or threatened and that critical habitat be designated for these species under the Act. The petition clearly identified itself as such and included the requisite identification information for the petitioner, required at 50 CFR 424.14(a). We acknowledged receipt of this petition via email on February 12, 2014. This finding addresses the Virgin Islands bronze skink.

Finding

Based on our review of the petition and sources cited in the petition, we find that the petition presents substantial scientific or commercial information indicating that listing the Virgin Islands bronze skink (Spondylurus sloanii) may be warranted based on Factors C and D. However, during our status review, we will thoroughly evaluate all potential threats to the species. Thus, for this species, the Service requests information on the five listing factors under section 4(a)(1) of the Act, including the factors identified in this finding (see Request for Information for Status Reviews, above).

Evaluation of a Petition To List the Yellowstone Bison as an Endangered or Threatened Species Under the Act

Additional information regarding our review of this petition can be found as an appendix at http://www.regulations.gov under Docket No. FWS-R6-ES-2015-0123 under the Supporting Documents section.

Species and Range

Yellowstone bison (Bison bison bison); Wyoming

Petition History

On November 14, 2014, we received a petition dated November 13, 2014, from the Western Watersheds Project and Buffalo Field Campaign, requesting that Yellowstone National Park bison be listed as endangered or threatened under the Act. The petition clearly identified itself as such and included the requisite identification information for the petitioner, required at 50 CFR 424.14(a).

On March 2, 2015, we received a second petition dated March 2, 2015, from Mr. James A. Horsley, requesting that Yellowstone National Park bison be listed as endangered or threatened under the Act. The petition clearly identified itself as such and included the requisite identification information for the petitioner, required at 50 CFR 424.14(a). In a March 24, 2015, letter to the petitioner, we responded that we reviewed the information presented in the petition and did not find that the petition warranted an emergency listing.

This finding addresses both petitions, as they request the same action for the same entity.

Finding

Based on our review of the petitions and sources cited in the petitions, we find that the petitions do not present substantial scientific or commercial information indicating that the petitioned action may be warranted for the Yellowstone bison (Bison bison bison). Because the petitions do not present substantial information indicating that listing the Yellowstone bison may be warranted, we are not initiating a status review of this subspecies in response to these petitions. Our justification for this finding can be found as an appendix at http://www.regulations.gov under Docket No. FWS-R6-ES-2015-0123 under the Supporting Documents section. However, we ask that the public submit to us any new information that becomes available concerning the status of, or threats to, this subspecies or its habitat at any time (see FOR FURTHER INFORMATION CONTACT).

Conclusion

On the basis of our evaluation of the information presented under section 4(b)(3)(A) of the Act, we have determined that the petitions summarized above for the Cabinet-Yaak population of grizzly bear (two petitions), Colorado desert fringe-toed lizard, Kings River slender salamander, sandstone night lizard, and the Yellowstone bison do not present substantial scientific or commercial information indicating that the requested actions may be warranted. Therefore, we are not initiating status reviews for these species.

The petitions summarized above for the Culebra skink, Great Basin silverspot butterfly, greater Saint Croix skink, greater Virgin Islands skink, lesser Saint Croix skink, Mona skink, narrow-foot diving beetle, Northern Rockies population of fisher, Puerto Rico skink, Scott riffle beetle, and Virgin Islands bronze skink present substantial scientific or commercial information indicating that the requested actions may be warranted.

Because we have found that these petitions present substantial information indicating that the petitioned actions may be warranted, we are initiating status reviews to determine whether these actions under the Act are warranted. At the conclusion of the status reviews, we will issue a finding, in accordance with section 4(b)(3)(B) of the Act, as to whether or not the Service believes listing is warranted.

It is important to note that the standard for a 90-day finding differs from the Act's standard that applies to a status review to determine whether a petitioned action is warranted. In making a 90-day finding, we consider only the information in the petition and in our files, and we evaluate merely whether that constitutes “substantial information” indicating that the petitioned action “may be warranted.” In a 12-month finding, we must complete a thorough status review of the species and evaluate the “best scientific and commercial data available” to determine whether a petitioned action “is warranted.” Because the Act's standards for 90-day and 12-month findings are different, a substantial 90-day finding does not mean that the 12-month finding will result in a “warranted” finding.

References Cited

A complete list of references cited is available on the Internet at http://www.regulations.gov and upon request from the appropriate lead field offices (contact the person listed under FOR FURTHER INFORMATION CONTACT).

Authors

The primary authors of this notice are staff members of the Ecological Services Program, U.S. Fish and Wildlife Service.

Authority

The authority for these actions is the Endangered Species Act of 1973, as amended (16 U.S.C. 1531 et seq.).

Dated: December 31, 2015.
Acting Director, U.S. Fish and Wildlife Service.

[FR Doc. 2016-00157 Filed 1-11-16; 8:45 am]

BILLING CODE 4333-15-P